DEPARTMENT OF THE INTERIOR

Bureau of Land Management

[LLCAC069 L1711.0000 AL.0000 025B]

Nomination Period Extension for the Carrizo Plain National Monument Advisory Council, CA

AGENCY: Bureau of Land Management, Interior.

ACTION: Notice.

SUMMARY: The Bureau of Land Management (BLM) is extending the period that it will accept nominations from the public to fill three positions on the Carrizo Plain National Monument Advisory Council (MAC) to December 31, 2012. MAC members provide advice and recommendations to the BLM on the management of public lands in the Carrizo Plain National Monument.

ADDRESSES: Nominations should be sent to Johna Hurl, Monument Manager, Bureau of Land Management, Bakersfield Field Office, 3801 Pegasus Drive, Bakersfield, CA 93308.

FOR FURTHER INFORMATION CONTACT: Johna Hurl, Monument Manager, Bakersfield Field Office, 3801 Pegasus Drive, Bakersfield, CA 93308, (661) 391-6093, jhurl@blm.gov or John Kelley, Carrizo Program Support Technician, at (661) 391-6088, jtkelley@blm.gov.

SUPPLEMENTARY INFORMATION: The MAC provides representative citizen counsel and advice to the Secretary of the Interior through the BLM with respect to the revision and implementation of the comprehensive plan for the Carrizo Plain National Monument. This notice constitutes an open call to the public to submit nomination applications for the following positions on the Monument Advisory Committee:

(1) A member of, or nominated by, the Carrizo Native American Advisory Council;

(2) A member representing individuals or companies authorized to graze livestock within the Monument; and

(3) One member with recognized backgrounds reflecting:

(i) The purposes for which the Monument was established; and

(ii) The interests of other stakeholders, including the general public, who are affected by or interested in the planning and management of the Monument.

Individuals may nominate themselves or others. Nominees must be residents of the counties or a neighboring county in which the MAC has jurisdiction. The BLM will evaluate nominees based on their education, training, experience, and their knowledge of the geographical resource. The Obama Administration prohibits individuals who are currently federally registered lobbyists from being appointed or re-appointed to Federal Advisory Committee Act (FACA) and non-FACA boards, committees, or councils.

The following must accompany nominations received in this call for nominations:

○ Letters of reference from represented interests or organizations;

○ A completed background information nomination form; and

○ Any other information that speaks to the nominee's qualifications.

Nominations will be accepted through December 31, 2012. Nomination forms are available on the Web at http://www.blm.gov/ca/st/en/info/rac/cpnmac.html.

A. Este Stifel,
District Manager, Central California District.

[FR Doc. 2012-30757 Filed 12-20-12; 8:45 am]

BILLING CODE 4310-40-P